DEPARTMENT OF ENERGY

Federal Energy Regulatory Commission

[Project No. 10482-122]

Eagle Creek Hydro Power, LLC; Eagle Creek Water Resources, LLC; Eagle Creek Land Resources, LLC; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 10482-122.

c. Date Filed: March 31, 2020.

d. Applicants: Eagle Creek Hydro Power, LLC, Eagle Creek Water Resources, LLC, and Eagle Creek Land Resources, LLC (collectively referred to as Eagle Creek).

e. Name of Project: Swinging Bridge Hydroelectric Project (Swinging Bridge Project).

f. Location: The existing project is located on the Mongaup River and Black Lake Creek in Sullivan County, New York. The project does not occupy federal lands.

g. Filed Pursuant to: Federal Power Act 16 U.S.C. 791 (a)-825(r).

h. Applicant Contact: Jody J. Smet, Vice President Regulatory Affairs, 116 N State Street, P.O. Box 167, Neshkoro, WI 54960; Telephone (804) 739-0654.

i. FERC Contact: Nicholas Ettema, (312) 596-4447 or nicholas.ettema@ferc.gov.

j. Deadline for filing motions to intervene and protests, comments, recommendations, preliminary terms and conditions, and preliminary prescriptions: 60 days from the issuance date of this notice; reply comments are due 105 days from the issuance date of this notice.

The Commission strongly encourages electronic filing. Please file using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-10482-122.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on July 15, 2020, revising the regulations under 40 CFR parts 1500-1518 that federal agencies use to implement NEPA (see Update to the Regulations Implementing the Procedural Provisions of the National Environmental Policy Act, 85 FR 43304). The Final Rule became effective on and applies to any NEPA process begun after September 14, 2020. An agency may also apply the regulations to ongoing activities and environmental documents begun before September 14, 2020, which includes the proposed Swinging Bridge Project. Commission staff intends to conduct its NEPA review in accordance with CEQ's new regulations.

l. The Swinging Bridge Project includes the Toronto Development, the Cliff Lake Development, and the Swinging Bridge Development. Water stored in Toronto Reservoir is released into Cliff Lake Reservoir, which is connected to Swinging Bridge Reservoir via a tunnel.

The Toronto Development consists of: (1) A reservoir with a gross storage capacity of 27,064 acre-feet and a surface area of 843 acres; (2) a 1,620-foot-long by 103-foot-high earth-fill dam with a 25-foot-wide crest at elevation 1,230 feet National Geodetic Vertical Datum of 1929 (NGVD29); (3) a 700-foot-long by 50-foot-wide concrete and rock side-channel spillway equipped with 5-foot-high by 50-foot-wide pin-type flashboards; (4) a 17.5-foot-wide by 11.5-foot-long gated concrete tower; (5) an upper 4-foot-wide by 5-foot-high gate and a lower 3-foot-wide by 5-foot-high gate; and (6) a 565-foot-long by 8-foot-wide by 8-foot-high horseshoe-shaped concrete conduit.

The Cliff Lake Development consists of: (1) A reservoir with a gross storage capacity of 3,200 acre-feet and a surface area of 183 acres; (2) a 95-foot-long by 20-foot-wide by 36-foot-high east earthen embankment; (3) a 150-foot-long by 44-foot-wide by 36-foot-high concrete non-overflow section; (4) a 100-foot-long by 5-foot-wide by 26-foot-high concrete overflow spillway section with 13-inch-high flashboards; (5) a 270-foot-long by 20-foot-wide by 50-foot-high west earthen embankment; (6) a 5.3-footwide, 6.7-foot-high, 2,100-foot-long horseshoe-shaped tunnel; (7) a 4-foot by 4-foot sluice gate; and (8) a 5-foot-wide by 5-foot-high lift gate.

The Swinging Bridge Development consists of: (1) A reservoir with a gross storage capacity of 35,925 acre-feet and a surface area of 980 acres; (2) a 965-foot-long by 135-foot-high earth-fill dam with a 25-foot-wide crest at elevation 1,080 feet NGVD29; (3) a 750-foot-long by 250-foot-wide concrete side channel spillway; (4) a 5-foot-high by 122.5-foot-wide gate section and five motor driven 22.5-foot-wide by 5-foot-high vertical-lift timber gates; (5) a 692-foot-long, 10-foot-diameter steel lined concrete penstock that supplied water to the Unit 1 powerhouse (which has been retired in place); (6) a 22-foot-wide, 32-foot-high reinforced concrete intake covered by an inclined, 22-foot-wide, 32.3-foot-high trashrack with bar clear spacing of 2.6 inches; (7) 784-foot-long, 9.75-foot-diameter concrete-lined tunnel connected to a 188-foot-long, 10-foot-diameter all-steel penstock that supplies water to the Unit 2 powerhouse; (8) a 30-foot-diameter steel surge tank; (9) a 10-foot-long, 4-foot-diameter penstock branching off the Unit 2 penstock that supplies water to the Unit 3 powerhouse; (10) a 48-foot-wide by 33-foot-long by 35-foot, 8-inch-high brick and steel Unit 2 powerhouse containing one 6.75 megawatt (MW) generating unit; (11) a 30-foot-long by 30-foot-wide by 20-foot-high concrete and steel Unit 3 powerhouse containing one 1.1 MW generating unit; (12) one 25-foot-wide by 75-foot-long tailrace and one 6-foot-wide by 20-foot-long tailrace; and (13) a 150-foot-long, 2.3-kilovolt (kV) transmission line that connects the Unit 2 powerhouse to an adjacent substation and a 250-foot-long, 4-kV transmission line that connects the Unit 3 powerhouse to the same substation. The project generates an average of 11,639 megawatt-hours annually (Unit 2 only). Eagle Creek proposes to continue to operate the project in a peaking mode.

m. A copy of the application can be viewed on the Commission's website at https://www.ferc.gov using the “eLibrary” link. Enter the docket number excluding the last three digits in the docket number field to access the document. For assistance, contact FERC Online Support.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule may be made as appropriate.

Milestone | Target date
Deadline for filing comments, recommendations, preliminary terms and conditions, and preliminary fishway prescriptions | March 2021.
Deadline for Filing Reply Comments | May 2021.

p. Final amendments to the application must be filed with the Commission no later than 30 days from the issuance date of this notice.

q. A license applicant must file no later than 60 days following the date of issuance of the notice of acceptance and ready for environmental analysis provided for in § 5.22: (1) a copy of the water quality certification; (2) a copy of the request for certification, including proof of the date on which the certifying agency received the request; or (3) evidence of waiver of water quality certification. Please note that the certification request must be sent to the certifying authority and to the Commission concurrently.

Dated: January 29, 2021.
Kimberly D. Bose,
Secretary.

[FR Doc. 2021-02330 Filed 2-3-21; 8:45 am]

BILLING CODE 6717-01-P